ENVIRONMENTAL PROTECTION AGENCY

[EPA-HQ-OAR-2009-0372; FRL-8921-7]

Proposed Approval of the Central Characterization Project's Remote-Handled Transuranic Waste Characterization Program at General Electric Vallecitos Nuclear Center

AGENCY: Environmental Protection Agency.

ACTION: Notice of availability; opening of public comment period.

SUMMARY: The Environmental Protection Agency (EPA or the Agency) is announcing the availability of, and soliciting public comments for 45 days on, the proposed approval of the radioactive, remote-handled (RH), transuranic (TRU) waste characterization program implemented by the Central Characterization Project (CCP) at General Electric Vallecitos Nuclear Center in Sunol, California. This waste is intended for disposal at the Waste Isolation Pilot Plant (WIPP) in New Mexico.

In accordance with the WIPP Compliance Criteria, EPA evaluated the characterization of RH TRU debris waste from GEVNC-CCP during an inspection conducted on December 2-4, 2008. Using the systems and processes developed as part of the U.S. Department of Energy's (DOE's) Carlsbad Field Office (CBFO) program, EPA verified whether DOE could adequately characterize RH TRU waste, consistent with the Compliance Criteria. The results of EPA's evaluation of GEVNC-CCP's RH program and its proposed approval are described in the Agency's inspection report, which is available for review in the public dockets listed in ADDRESSES. We will consider public comments received on or before the due date mentioned in DATES.

This notice summarizes the waste characterization processes evaluated by EPA and EPA's proposed approval. As required by the 40 CFR 194.8, at the end of a 45-day comment period EPA will evaluate public comments received, and if appropriate, finalize the reports responding to the relevant public comments, and issue a final report and approval letter to DOE.

DATES: Comments must be received on or before August 7, 2009.

ADDRESSES: Submit your comments, identified by Docket ID No. EPA-HQ-OAR-2009-0372, by one of the following methods:

• http://www.regulations.gov: Follow the on-line instructions for submitting comments.

• E-mail: to a-and-r-docket@epa.gov.

• Fax: 202-566-1741.

• Mail: Air and Radiation Docket and Information Center, Environmental Protection Agency, Mailcode: 6102T, 1200 Pennsylvania Ave., NW., Washington, DC 20460.

Instructions: Direct your comments to Attn: Docket ID No. EPA-HQ-OAR-2009-0372. The Agency's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically at http://www.regulations.gov. As provided in EPA's regulations at 40 CFR part 2, and in accordance with normal EPA docket procedures, if copies of any docket materials are requested, a reasonable fee may be charged for photocopying.

FOR FURTHER INFORMATION CONTACT: Rajani Joglekar or Ed Feltcorn, Radiation Protection Division, Center for Waste Management and Regulations, Mail Code 6608J, U.S. Environmental Protection Agency, 1200 Pennsylvania Avenue, Washington, DC 20460; telephone number: 202-343-9601; fax number: 202-343-2305; e-mail address: <joglekar.rajani@epa.gov> or <feltcorn.ed@epa.gov>.

SUPPLEMENTARY INFORMATION:

I. General Information

A. What Should I Consider as I Prepare My Comments for EPA?

1. Submitting CBI. Do not submit this information to EPA through http://www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing the WIPP, near Carlsbad in southeastern New Mexico, as a deep geologic repository for disposal of TRU radioactive waste. As defined by the WIPP Land Withdrawal Act (LWA) of 1992 (Pub. L. No. 102-579), as amended (Pub. L. No. 104-201), TRU waste consists of materials with radionuclides that have atomic numbers greater than 92 (with half-lives greater than twenty years), in concentrations greater than 100 nanocuries of alpha-emitting TRU isotopes per gram of waste. Much of the existing TRU waste consists of items contaminated during the production of nuclear weapons, such as rags, equipment, tools, and sludges.

TRU waste is itself divided into two categories, based on its level of radioactivity. Contact-handled (CH) TRU waste accounts for about 97 percent of the volume of TRU waste currently destined for the WIPP. It is packaged in 55-gallon metal drums or in metal boxes and can be handled under controlled conditions without any shielding beyond the container itself. The maximum radiation dose at the surface of a CH TRU waste container is 200 millirems per hour. CH waste primarily emits alpha particles that are easily shielded by a sheet of paper or the outer layer of a person's skin.

Remote-handled (RH) TRU waste emits more radiation than CH TRU waste and must therefore be both handled and transported in specially shielded containers. Surface radiation levels of unshielded containers of remote-handled transuranic waste exceed 200 millirems per hour. RH waste primarily emits gamma radiation, which is very penetrating and requires concrete, lead, or steel to block it.

On May 13, 1998, EPA issued a final certification of compliance for the WIPP facility. The final rule was published in the Federal Register on May 18, 1998 (63 FR 27354). EPA officially recertified WIPP on March 29, 2006 (71 FR 18015). Both the certification and recertification determined that WIPP complies with the Agency's radioactive waste disposal regulations at 40 CFR part 191, subparts B and C, and is therefore safe to contain TRU waste.

The final WIPP certification decision includes conditions that (1) prohibit shipment of TRU waste for disposal at WIPP from any site other than the Los Alamos National Laboratories (LANL) until the EPA determines that the site has established and executed a quality assurance program, in accordance with 194.22(a)(2)(i), 194.24(c)(3), and 194.24(c)(5) for waste characterization activities and assumptions (Condition 2 of Appendix A to 40 CFR part 194); and (2) (with the exception of specific, limited waste streams and equipment at LANL) prohibit shipment of TRU waste for disposal at WIPP (from LANL or any other site) until EPA has approved the procedures developed to comply with the waste characterization requirements of 194.22(c)(4) (Condition 3 of Appendix A to 40 CFR part 194). The EPA's approval process for waste generator sites is described in Section 194.8 (revised July 2004).

Condition 3 of the WIPP Certification Decision requires EPA to conduct independent inspections at DOE's waste generator/storage sites of their TRU waste characterization capabilities before approving their program and the waste for disposal at the WIPP. EPA's inspection and approval process gives EPA (a) discretion in establishing technical priorities, (b) the ability to accommodate variation in the site's waste characterization capabilities, and (c) flexibility in scheduling site waste characterization inspections.

As described in Section 194.8(b), EPA's baseline inspections evaluate each waste characterization process component (equipment, procedures, and personnel training/experience) for its adequacy and appropriateness in characterizing TRU waste destined for disposal at WIPP. During an inspection, the site demonstrates its capabilities to characterize TRU waste(s) and its ability to comply with the regulatory limits and tracking requirements under 194.24. A baseline inspection may describe any limitations on approved waste streams or waste characterization processes [§ 194.8(b)(2)(iii)]. In addition, a baseline inspection approval must specify what subsequent waste characterization program changes or expansion should be reported to EPA [§ 194.8(b)(4)]. The Agency is required to assign Tier 1 (T1) and Tier 2 (T2) designations to the reportable changes depending on their potential impact on data quality. A T1 designation requires that the site must notify EPA of proposed changes to the approved components of an individual waste characterization process (such as radioassay equipment or personnel), and EPA must also approve the change before it can be implemented. A waste characterization element with a T2 designation allows the site to implement changes to the approved components of individual waste characterization processes (such as visual examination procedures) but requires EPA notification. The Agency may choose to inspect the site to evaluate technical adequacy before approval. EPA inspections conducted to evaluate T1 or T2 changes are follow-up inspections under the authority of § 194.24(h). In addition to the follow-up inspections, if warranted, EPA may opt to conduct continued compliance inspections at TRU waste sites with a baseline approval under the authority of § 194.24(h).

The site inspection and approval process outlined in § 194.8 requires EPA to issue a Federal Register notice proposing the baseline compliance decision, docket the inspection report for public review, and seek public comment on the proposed decision for a period of 45 days. The report must describe the waste characterization processes EPA inspected at the site, as well as their compliance with § 194.24 requirements.

III. Proposed Baseline Compliance Decision

EPA has performed a baseline inspection of RH TRU waste characterization activities at GEVNC-CCP (EPA Inspection No. EPA-GEVNC-CCP-RH-12.08-8). The purpose of EPA's inspection was to verify that the waste characterization program implemented at GEVNC-CCP for characterizing RH TRU, retrievably-stored, debris waste is technically adequate and meets the regulatory requirements at 40 CFR 194.24.

The RH waste that DOE is proposing for WIPP disposal is from the decontamination and demolition (D&D) of Hot Cell 4 in Building 102 at GEVNC between 2008 and 2009. The hot cells were used primarily for non-destructive examination of fuel materials and the production of radionuclide sources. The examinations consisted mainly of post-irradiation examination (PIE) of uranium fuel and reactor components until 1982. Since then, the hot cell has been used for the production of radionuclide sources.

Initially, CCP was not prepared for the EPA inspection and did not provide sufficient objective evidence for the Agency's evaluation during the inspection. This resulted in EPA identifying several significant issues. EPA concluded that the inspection could not be completed and that extensive documentation revisions were necessary. In early 2009, CCP provided revised documentation in the form of additional technical information and objective evidence in response to the outstanding issues EPA had identified previously. These are discussed in EPA's GEVNC Inspection Report (EPA DOCKET NO: A-98-49, II-A4-113) available in the regulatory docket accompanying this FR notice.

The inspection scope covered only one RH waste stream (GEVNC.01); no additional RH TRU waste is to be generated during the D&D of the Hot Cell 4. This inspection's focus was to evaluate the acceptable knowledge (AK) records that had been assembled to document RH TRU WC activities, in conjunction with the development of scaling factors, dose-to-curie (DTC) and visual examination (VE) to confirm physical and radiological contents of individual TRU RH debris waste containers, and the use of the WIPP Waste Information System (WWIS) to report and track waste information. This inspection was similar to previous EPA inspections of CCP WC activities at RH waste sites (see Air Docket Nos. A-98-49, II-A4-72; A-98-49, II-A4-73; A-98-49, II-A4-96; A-98-49, II-A4-104; and A-98-49, II-A4-111). Today's proposed baseline approval, therefore, is limited to one retrievably-stored RH TRU debris waste stream (GEVNC.01).

The EPA inspection team identified one finding and five concerns related to WC processes GEVNC-CCP implemented to characterize RH debris waste (see Attachments B.1 through B.6 of the accompanying inspection report). GEVNC-CCP revised a number of specific documents to address the EPA finding and concerns.

After reviewing the documents provided by DOE through early 2009, EPA determined that the GEVNC-CCP RH WC program was technically adequate and that all concerns have been resolved. Therefore, EPA is proposing to approve the following GEVNC-CCP RH WC program components implemented to characterize GEVNC RH Waste Stream GEVNC.01 only:

(1) The AK process for the RH TRU debris waste stream designated as Waste Stream GEVNC.01 generated during the D&D of Hot Cell 4

(2) The radiological characterization process using DTC and scaling factors for assigning radionuclide values to Waste Stream GEVNC.01 that is documented in CCP-AK-GEV-501, Revision 1, as supported by the revised calculation packages and detailed in EPA's GEVNC Inspection Report mentioned above

(3) The VE process to identify waste material parameters (WMPs) and the physical form of the waste

(4) The WWIS to submit data for both characterization and certification for RH TRU waste

(5) The attainment of pertinent data quality objectives (DQOs)

Since all the RH waste at GEVNC is only one debris waste stream from D&D activities, no Tier 1 (T1) changes for the EPA-evaluated waste characterization components are needed. No additional RH TRU debris waste streams requiring characterization by CCP for disposal at the Waste Isolation Pilot Plant will be generated. Following an EPA inspection, CCP and other TRU sites routinely revise WC procedures as additional waste containers are characterized and waste-related information is generated. EPA refers to these changes as Tier 2 (T2) changes that require EPA review at regular intervals. The waste stream at GEVNC to be disposed of at the WIPP is of limited volume, and as of the date of this proposed report, more than 75% of the waste has been characterized and packaged. Soon after the CBFO issues a certification, all of the RH TRU waste will be disposed. No additional RH debris waste characterization will occur once the debris from D&D activity is characterized and disposed of at WIPP. The quarterly notification of T2 changes required of other waste characterization sites is not applicable to GEVNC-CCP. In lieu of a quarterly T2 changes submission, however, a one-time T2 information submission to EPA will be necessary. Therefore, no later than four weeks after the last shipment of RH debris waste from the site, GEVNC-CCP must provide applicable T2 changes included in Table 1 below to EPA for review.

GEVNC has indicated that a small quantity of debris from the D&D operation may qualify as contact-handled (CH) TRU debris (i.e., not meeting the external dose rate criterion for RH TRU). It is expected that GEVNC-CCP will ship these CH debris containers to CCP at the Idaho National Laboratory (INL-CCP) for characterization as CH waste prior to disposal at the WIPP. EPA notification prior to shipment concerning these CH waste containers is necessary. In addition, upon characterizing these GEVNC CH containers, INL-CCP must provide EPA documentation on how CH container-specific AK information was handled, non destructive assay (NDA) data on the individual drums, and other supporting information, as appropriate.

Table 1—Tiering of RH TRU WC Processes Implemented by GEVNC-CCP, Based on December 2-4, 2008 Baseline Inspection
RH WC process elements | GEVNC-CCP RH WC—T1 changes | GEVNC-CCP RH WC—T2 changes *
Acceptable Knowledge (AK) | None ** | Notification and submission of the following items: —Correlation and Surrogate Summary Form; (AK 2) —Revisions to the AK Summary CCP-AK-GEV-500, including changes to the associated Reference List; (AK 6) —Updates and revisions to CCP-AK-GEV-501; (AK 12) —Revision of reference M007; (AK 12) —Additional discrepancy resolutions; (AK 13) —Final Waste Stream Profile Form and related attachments, and subsequent change requests; (AK 14) —AK Accuracy reports for this waste stream; (AK 15).
Radiological Characterization, Dose-to-Curie (DTC), and the application of radionuclide-specific scaling factors | None ** | Notification and submission of the following items: —Revisions of CCP-AK-GEV-501 or CCP-TP-504 that require CBFO approval; (RC 3) —Generation of measurement data for any GEVNC RH TRU container(s) that subsequently qualifies as CH and is subject to NDA; (RC 8).
Visual Examination (VE) | None ** | Notification and submission of the following items: —Any change to VE procedure(s) that requires CBFO approval; (VE 2); ***
WIPP Waste Information System (WWIS) | None at this time | Notification and submission of the following items: —Changes to WWIS procedure(s) that require CBFO approval; (WWIS 2); *** —Changes to the Excel spreadsheet titled WWIS Data Entry Summary Characterization and Certification; (WWIS 2).
* All applicable T2 changes must be provided to EPA within four (4) weeks of completion of the last shipment of GEVNC RH debris proposed for approval to WIPP for disposal.
** No additional RH waste from GEVNC will be characterized using the site processes evaluated during the inspection.
*** Excluding changes that are editorial in nature or are required to address administrative concerns.

IV. Availability of the Baseline Inspection Report for Public Comment

EPA has placed the report discussing the results of the Agency's inspection of GEVNC-CCP in the public docket as described in ADDRESSES. In accordance with 40 CFR 194.8, EPA is providing the public 45 days to comment on these documents. The Agency requests comments on the proposed approval decision, as described in the inspection report. EPA will accept public comment on this notice and supplemental information as described in Section 1.B. above. EPA will not make a determination of compliance before the 45-day comment period ends. At the end of the public comment period, EPA will evaluate all relevant public comments and revise the inspection report as necessary. If appropriate, the Agency will then issue a final approval letter and inspection report, both of which will be posted on the WIPP Web site.

Information on the certification decision is filed in the official EPA Air Docket, Docket No. A-93-02 and is available for review in Washington, DC, and at the three EPA WIPP informational docket locations in Albuquerque, Carlsbad, and Santa Fe, New Mexico. The dockets in New Mexico contain only major items from the official Air Docket in Washington, DC, plus those documents added to the official Air Docket since the October 1992 enactment of the WIPP LWA.

Dated: June 12, 2009.
Elizabeth Cotsworth,
Director, Office of Radiation and Indoor Air.

[FR Doc. E9-14706 Filed 6-22-09; 8:45 am]

BILLING CODE 6560-50-P